DEPARTMENT OF ENERGY

Federal Energy Regulatory Commission

[Docket No. IC18-2-000]

Commision Information Collection Activities (FERC-725Y), Comment Request; Extension

AGENCY: Federal Energy Regulatory Commission, Department of Energy.

ACTION: Notice of extension of information collection and request for comments.

SUMMARY: In compliance with the requirements of the Paperwork Reduction Act of 1995, the Federal Energy Regulatory Commission (Commission or FERC) is submitting its information collection FERC-725Y, Mandatory Reliability Standards (Personnel Performance, Training, and Qualifications), to the Office of Management and Budget (OMB) for review of the information collection requirements.

Any interested person may file comments directly with OMB and should address a copy of those comments to the Commission as explained below. The Commission previously published a Notice in the Federal Register on 12/26/2017 requesting public comments. The Commission received no comments on the FERC-725Y information collection and is making this notation in its submittal to OMB.

DATES: Comments on the collection of information are due by April 13, 2018.

ADDRESSES: Comments filed with OMB, identified by the OMB Control No. 1902-0279, should be sent via email to the Office of Information and Regulatory Affairs: oira_submission@omb.gov. Attention: Federal Energy Regulatory Commission Desk Officer. The Desk Officer may also be reached via telephone at 202-395-0710.

A copy of the comments should also be sent to the Commission, in Docket No. IC18-2-000, by either of the following methods:

• eFiling at Commission's website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: FERC-725Y, Mandatory Reliability Standard (Personnel Performance, Training, and Qualifications).

OMB Control No.: 1902-0279.

Type of Request: Three-year extension of the FERC-725Y information collection requirements with no changes to the reporting requirements.

Abstract: The FERC-725Y information collection is intended to help ensure the safe and reliable operation of the interconnected grid through the retention of suitably trained and qualified personnel in positions that can impact the reliable operation of the Bulk-Power System. The Commission uses the FERC-725Y to implement the Congressional mandate of the Energy Policy Act of 2005 to develop mandatory and enforceable Reliability Standards to better ensure the reliability of the nation's Bulk-Power System. FERC-725Y will ensure that personnel performing or supporting real-time operations on the Bulk Electric System (BES) are trained using a systematic approach. The Reliability Standard requires entities to maintain records subject to review by the Commission and NERC to ensure compliance with the Reliability Standard.

The Reliability Standard requires entities to maintain records subject to review by the Commission and NERC to ensure compliance with the Reliability Standard. This Reliability Standard contains of five Requirements:

• R1 requires reliability coordinators, balancing authorities, and transmission operators to develop and implement a training program for system operators.

• R2 requires transmission owners to develop and implement a training program for system operators.

• R3 requires reliability coordinators, balancing authorities, transmission operators and transmission owners to verify the capabilities of their identified personnel.

• R4 requires reliability coordinators, balancing authorities, transmission operators and transmission owners to provide those personnel with emergency operations training using simulation technology.

• R6 requires applicable generator operators to develop and implement training for certain of their dispatch personnel at a centrally located dispatch center.

Type of Respondents: Transmission owners and generator owners.

Estimate of Annual Burden: ¹ Our estimate below regarding the number of respondents is based on the NERC compliance registry as of September 29, 2017. According to the NERC compliance registry, NERC has registered 176 transmission operators, 331 transmission owners and 890 generator operators.

¹ Burden is defined as the total time, effort, or financial resources expended by persons to generate, maintain, retain, or disclose or provide information to or for a Federal agency. For further explanation of what is included in the information collection burden, reference 5 Code of Federal Regulations 1320.3.

The Commission estimates the additional annual reporting burden and cost as follows:

FERC-725Y in Docket No. IC18-2-000
| Number and type of respondents ² | Annual number of responses per respondent | Total number of responses | Avg. burden & cost per response ³ | Total annual burden hours & total annual cost | Cost per respondent
| (1) | (2) | (1) * (2) = (3) | (4) | (3) * (4) = (5) | (5) ÷ (1)
Annual Evaluation and Update of Training Program and Task List | TO (331), GOP (890) | 1 | ⁴ 1,064 | 6 hrs.; $408.72 hr | 6,384 hrs.; $434,878 | $68.12
Retention of Records | TO (331), GOP (890) | 1 | ⁴ 1,064 | 10 hrs.; $408.90 hr | 10,640 hrs.; $435,070 | 40.89
Verification and Retention of Evidence of capabilities of personnel [R3, M3, C1.2], and Creation and Retention of Records on Simulation Training | TO (331) | 1 | 331 | 10 hrs.; $408.90 hr | 3,310 hrs.; $135,346 | 40.89
Total |  |  |  |  | 20,334 hrs.; $1,005,294 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

² TO = Transmission Owner; GOP = Generator Operator.

³ The estimates for cost per response are loaded hourly wage figure (includes benefits) is based on the average of three occupational categories for 2016 found on the Bureau of Labor Statistics website (http://www.bls.gov/oes/current/naics2_22.htm): Electrical Engineer (Occupation Code: 17-2071): $68.12; Office and Administrative Support (Occupation Code: 43-0000): $40.89.

⁴ Some transmission owners are also generator operators. To eliminate double counting some entities, this figure reflects the number of unique entities (1064) within the group of TOs and GOPs. That approach is used throughout the table.

Dated: March 6, 2018.
Kimberly D. Bose,
Secretary.

[FR Doc. 2018-05102 Filed 3-13-18; 8:45 am]

BILLING CODE 6717-01-P